DEPARTMENT OF ENERGY

Federal Energy Regulatory Commission

Notice of Request for Extension of Time To Commence and Complete Project Construction and Soliciting Comments, Motions To Intervene, and Protests

March 13, 2001.

Take notice that the following application has been filed with the Commission and is available for public inspection:

a. Application Type: Request for Extension of Time to Commence and Complete Project Construction.

b. Project No.: 11175-010.

c. Location: The proposed Crown Mill Hydroelectric Project is to be located at the Upper St. Anthony Falls on the Mississippi River, in the City of Minneapolis, Hennepin County, Minnesota. The project would occupy 0.5 acre of lands of the United States under the jurisdiction of the U.S. Army Corps of Engineers.

d. Date Filed: February 6, 2001 and supplemented on February 26, 2001.

e. Applicant: Crown Hydro Company.

f. Applicant Contact: Thomas R. Griffin, 5436 Columbus Avenue South, Minneapolis, Minnesota, 55417, (612) 825-1043, or tgrifhydro1@qwest.net

g. FERC Contact: Any questions on this notice should be addressed to Mr. Lynn R. Miles, at (202) 219-2671, or e-mail address: lynn.miles@ferc.fed.us

h. Deadline for filing comments and or motions: April 20, 2001.

All documents (original and eight copies) should be filed with: David P. Boergers, Secretary, Federal Energy Regulatory Commission, 888 First Street, NE., Washington, DC 20426. Comments, protests and interventions may be filed electronically via the internet in lieu of paper. See, 18 CFR 385.2001(a)(1)(iii) and the instructions on the Commission's web site at http://www.ferc.fed.us/efi/doorbell.htm.

Please include the project numbers (11175-010) on any comments or motions filed.

i. Description of the Request: The licensee requests that the deadline for commencement of construction of the Crown Mill Hydroelectric Project be extended for two additional years. The deadline to commence project construction for FERC Project No. 11175 would be extended to March 19, 2003. The deadline for completion of construction for FERC Project No. 11175 would be extended to March 19, 2006.

j. Locations of the Application: A copy of the application is available for inspection and reproduction at the Commission's Public Reference Room, located at 888 First Street, NE, Room 2A, Washington, DC 20426, or by calling (202) 208-1371. This filing may be viewed on http://www.ferc.fed.us/online/rims.htm (call (202) 208-2222 for assistance). A copy is also available for inspection and reproduction at the address in item h above.

k. Individuals desiring to be included on the Commission's mailing list should so indicate by writing to the Secretary of the Commission.

l. Individuals desiring to be included on the Commission's mailing list should so indicate by writing to the Secretary of the Commission.

m. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

n. Filing and Service of Responsive Documents—Any filings must bear in all capital letters the title “COMMENTS”, “PROTEST”, or “MOTION TO INTERVENE”, as applicable, and the Project Number of the particular application to which the filing refers. An additional copy must be sent to the Director, Division of Hydropower Administration and Compliance, Federal Energy Regulatory Commission, at the above-mentioned address. A copy of any motion to intervene must also be served upon each representative of the Applicant specified in the particular application.

o. Agency Comments—Federal, state, and local agencies are invited to file comments on the described application. A copy of the application may be obtained by agencies directly from the Applicant. If any agency does not file comments within the time specified for filing comments, it will be presumed to have no comments. One copy of an agency's comments must also be sent to the Applicant's representatives.

David P. Boergers,
Secretary.

[FR Doc. 01-6660 Filed 3-16-01; 8:45 am]

BILLING CODE 6717-01-M